DEPARTMENT OF LABOR

Employment and Training Administration

[TA-W-59,088]

Moore Wallace, an RR Donnelley Company; Iowa City, Iowa; Notice of Termination of Investigation

Pursuant to Section 221 of the Trade Act of 1974, an investigation was initiated on March 17, 2006 in response to a petition filed by a company official on behalf of workers at Moore Wallace, Inc., an RR Donnelley Company, Iowa City, Iowa.

The petitioner has requested that the petition be withdrawn. Consequently, the investigation has been terminated.

Signed in Washington, DC, this 30th day of March 2006.
Elliott S. Kushner,
Certifying Officer, Division of Trade Adjustment Assistance.

[FR Doc. E6-5419 Filed 4-11-06; 8:45 am]

BILLING CODE 4510-30-P